FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 31, 2006.

A. Federal Reserve Bank of Atlanta (Andre Anderson, Vice President) 1000 Peachtree Street, N.E., Atlanta, Georgia 30303:

1. W.C. Martin, Jr.; Jean Wood Martin; Donald Wayne Sanders; Mary Martin Noland; Donald Martin Sanders; Rebecca Martin Sanders; William Matthew Sanders, all of Aliceville, Alabama; Alice Susan Martin, Chattanooga, Tennessee, Milton Barrett Noland, Carrollton, Alabama; and Karrie Noland Beasley, Tuscaloosa, Alabama, to retain voting shares of First National Bancshares of Central Alabama, Inc., and thereby indirectly retain voting shares of First National Bank of Central Alabama, both of Aliceville, Alabama.

Board of Governors of the Federal Reserve System, March 13, 2006.
Robert deV. Frierson,
Deputy Secretary of the Board.

[FR Doc. E6-3811 Filed 3-15-06; 8:45 am]

BILLING CODE 6210-01-S